DEPARTMENT OF HEALTH AND HUMAN SERVICES

Substance Abuse and Mental Health Services Administration

Fiscal Year (FY) 2004 Funding Opportunity

AGENCY: Center for Substance Abuse Treatment, Substance Abuse and Mental Health Services Administration, HHS.

ACTION: Notice of intent to award a single source grant to the National Association of State Alcohol and Drug Abuse Directors (NASADAD).

SUMMARY: This notice is to inform the public that the Substance Abuse and Mental Health Services Administration (SAMHSA), Center for Substance Abuse Treatment (CSAT), intends to award approximately $500,000 per year for up to three years to the National Association of State Alcohol and Drug Abuse Directors (NASADAD). This is not a formal request for applications. Assistance will be provided only to NASADAD based on the receipt of a satisfactory application that is approved by an independent review group.

Funding Opportunity Title: TI 04-006.

Catalog of Federal Domestic Assistance (CFDA) Number: 93.243.

Authority: Section 1935 of the Public Health Service Act, as amended.

Justification: SAMHSA's Center for Substance Abuse Treatment (CSAT) intends to award a single source grant to the National Association of State Alcohol and Drug Abuse Directors (NASADAD) to facilitate collaborative activities between SAMHSA and the State substance abuse authorities (SSAs). SSAs are the recipients of SAMHSA's (SAPT) Block Grant funds. In order to support SSAs/States to respond to the changes brought about by the transformation of the SAPT Block Grant to a performance and outcomes focus, SAMHSA is seeking to award a single source grant to NASADAD to facilitate the supportive activities. NASADAD is in the unique position to facilitate these activities because:

• NASADAD is the sole and unique organization with a direct official relationship with the SSAs. SSAs, which form the membership of NASADAD, are the only entities that may directly apply for and administer SAMHSA's SAPT Block Grant funds.

• The activities required under this grant program will require NASADAD and its members (SSAs) to provide the necessary State perspective regarding needs and potential changes to the State substance abuse treatment system.

• NASADAD is the sole organization that has been utilizing, in support of CSAT, a Web-based process on performance measurements and an issue identification mechanism.

• NASADAD has a repository of knowledge on State issues related to substance abuse treatment indicators and accountability for performance in the SAPT Block Grant. This knowledge is critical to the grant project.

• NASADAD has a Data Subcommittee that is essential to the required grant activities. In addition, NASADAD is uniquely qualified to conduct the required activities because of its relationship with the SSAs and its history of collaboration with the Federal government and other organizations that represent issues of importance to State government.

Contact: Hal Krause, SAMHSA/CSAT, 5600 Fishers Lane, Rockwall II, 8th Floor, Rockville, MD 20857; telephone: (301) 443-0488; e-mail: hkrause@samhsa.gov.

Dated: July 2, 2004.
Daryl Kade,
Director, Office of Policy, Planning and Budget, Substance Abuse and Mental Health Services Administration.

[FR Doc. 04-15571 Filed 7-8-04; 8:45 am]

BILLING CODE 4162-20-P